DEPARTMENT OF COMMERCE

National Oceanic and Atmospheric Administration

RIN: 0648-XB99

South Atlantic Fishery Management Council; Public Meetings (Addendum)

AGENCY: National Marine Fisheries Service (NMFS), National Oceanic and Atmospheric Administration (NOAA), Commerce.

ACTION: Addendum to Earlier Notice - South Atlantic Fishery Management Council to meet September 17-21, 2007 meeting in N. Myrtle Beach SC.

SUMMARY: In addition to the items noted in the earlier Notice for the September 17-21, 2007 meeting of the South Atlantic Fishery Management Council (Council), the full Council will also consider a control date for the commercial dolphin/wahoo sector and the Council will take action as appropriate.

DATES: The meeting will be held in September 2007. See SUPPLEMENTARY INFORMATION for specific dates and times.

ADDRESSES: The meeting will be held at the Avista Resort, 300 North Ocean Boulevard, N. Myrtle Beach, SC, 29582; Telephone: (1-800) 968-8986 or 843/249-2521. Copies of documents are available from Kim Iverson, Public Information Officer, South Atlantic Fishery Management Council, 4055 Faber Place Drive, Suite 201, North Charleston, SC 29405.

FOR FURTHER INFORMATION CONTACT: Kim Iverson, Public Information Officer; telephone: (843) 571-4366 or toll free at (866) SAFMC-10; fax: (843) 769-4520; email: kim.iverson@safmc.net.

SUPPLEMENTARY INFORMATION: The original notice published on August 14, 2007 (72 FR 45419).

Meeting Date

Council Session: September 21, 2007, 10:45 a.m. - 12 noon

Documents regarding these issues are available from the Council office (see ADDRESSES).

Although non-emergency issues not contained in this agenda may come before this Council for discussion, those issues may not be the subjects of formal Council action during this meeting. Council action will be restricted to those issues specifically listed in this notice and any issues arising after publication of this notice that require emergency action under section 305 (c) of the Magnuson-Stevens Act, provided the public has been notified of the Council's intent to take final action to address the emergency.

Except for advertised (scheduled) public hearings and public comment, the times and sequences specified on this agenda are subject to change.

Special Accommodations

These meetings are physically accessible to people with disabilities. Requests for sign language interpretation or other auxiliary aids should be directed to the Council office (see ADDRESSES) 2 days prior to the beginning of the meeting.

Dated: August 21, 2007.
Emily Menashes,
Acting Director, Office of Sustainable Fisheries, National Marine Fisheries Service.

[FR Doc. E7-16877 Filed 8-24-07; 8:45 am]

BILLING CODE 3510-22-S